ENVIRONMENTAL PROTECTION AGENCY

40 CFR Part 52

[EPA-R09-OAR-2020-0476; FRL-8777-03-R9]

Air Plan Approval; California; Antelope Valley Air Quality Management District, Eastern Kern Air Pollution Control District, and Yolo-Solano Air Quality Management District; Combustion Sources; Correcting Amendment

AGENCY: Environmental Protection Agency (EPA).

ACTION: Final rule; correction.

SUMMARY: On September 10, 2021, the Environmental Protection Agency (EPA) published a final rule in the Federal Register approving revisions to the Antelope Valley Air Quality Management District, Eastern Kern Air Pollution Control District and Yolo-Solano Air Quality Management District portions of the California State Implementation Plan (SIP). In that rulemaking, the EPA inadvertently cited the incorrect local effective date in identifying one of the rules being approved into the SIP. This document corrects that error in the final rule's preamble and regulatory text.

DATES: This correction is effective on October 12, 2021.

FOR FURTHER INFORMATION CONTACT: Kevin Gong, EPA Region IX, (415) 972-3073, gong.kevin@epa.gov.

SUPPLEMENTARY INFORMATION: In FR Doc. 2021-19434 appearing on page 50645 in the Federal Register of Friday, September 10, 2021, the following corrections are made:

1. On page 50645, in Table 1—Submitted Rules, in the column for “Local action” and the row for “EKAPCD”, the table cell is corrected to read “Amended 03/08/2018”.

§ 52.220 [Corrected]

2. On page 50646, at the bottom of the third column, the regulatory text for added 52 CFR 52.220(c)(520)(i)(B)(1), “(1) Rule 425.2, “Boilers, Steam Generators, and Process Heaters (Oxides of Nitrogen),” amended on January 11, 2018.” is corrected to read “(1) Rule 425.2, “Boilers, Steam Generators, and Process Heaters (Oxides of Nitrogen),” amended on March 8, 2018.”.

Dated: October 5, 2021.
Deborah Jordan,
Acting Regional Administrator, Region IX.

[FR Doc. 2021-22153 Filed 10-8-21; 11:15 am]

BILLING CODE 6560-50-P